DEPARTMENT OF COMMERCE

International Trade Administration

[A-533-843]

Certain Lined Paper Products From India: Notice of Final Results of Antidumping Duty Changed Circumstances Review

AGENCY: Enforcement and Compliance, International Trade Administration, Department of Commerce.

SUMMARY: On July 14, 2014, the Department of Commerce (the Department) published the Preliminary Results of a changed circumstances review (CCR) of the antidumping duty order on certain lined paper products from India.¹ The Department preliminarily determined that Kokuyo Riddhi Paper Products Private Limited (Kokuyo) is the successor-in-interest to Riddhi Enterprises (Riddhi). We received comments from interested parties on the Preliminary Results. Based on our analysis of these comments, for the final results, the Department continues to find that Kokuyo is the successor-in-interest to Riddhi.

¹ See Certain Lined Paper Products From India: Initiation and Preliminary Results of Antidumping Duty Changed Circumstances Review, 79 FR 40709 (July 14, 2014) (Preliminary Results), and the accompanying Preliminary Decision Memorandum.

DATES: Effective Date: April 6, 2015.

FOR FURTHER INFORMATION CONTACT: Cindy Robinson or Eric B. Greynolds, AD/CVD Operations, Office III, Enforcement and Compliance, International Trade Administration, U.S. Department of Commerce, 14th Street and Constitution Avenue NW., Washington, DC 20230; telephone: (202) 482-3797 and (202) 482-6071, respectively.

SUPPLEMENTARY INFORMATION:

Background

On September 28, 2006, the Department published in the Federal Register the antidumping duty order on certain lined paper from India.²

² See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

On May 14, 2014, Kokuyo requested that the Department conduct a CCR to determine whether it is the successor-in-interest to Riddhi, for purposes of determining antidumping duties due as a result of the CLPP Order. On July 14, 2014, the Department published its Preliminary Results, in which it determined that Kokuyo is the successor-in-interest to Riddhi.³ The Department invited interested parties to comment on the Preliminary Results.⁴ On August 11, 2014, Petitioners ⁵ submitted their post-preliminary comments.⁶ On August 29, 2014, Kokuyo submitted its rebuttal comments.⁷ On September 5, 2014, Petitioners submitted a case brief.⁸ On September 18, 2014, Kokuyo submitted a rebuttal brief.⁹

³ See Preliminary Results, 79 FR 40709.

⁴ Id.

⁵ Petitioners are the Association of American School Paper Suppliers (AASPS) and its individual members, which consists of the following companies: ACCO Brands USA LLC, Norcom Inc., and Top Flight, Inc. See Petitioners' letter dated June 5, 2014.

⁶ See Petitioners' August 11, 2014 comments (Post-Preliminary Comments).

⁷ See Kokuyo's August 29, 2014 rebuttal comments (Post-Preliminary Rebuttal).

⁸ See Petitioners' September 5, 2014 Case Brief.

⁹ See Kokuyo's September 18, 2014 Rebuttal Brief.

Scope of the Order

The merchandise covered by the CLPP Order is certain lined paper products, typically school supplies (for purposes of this scope definition, the actual use of or labeling these products as school supplies or non-school supplies is not a defining characteristic) composed of or including paper that incorporates straight horizontal and/or vertical lines on ten or more paper sheets (there shall be no minimum page requirement for looseleaf filler paper). The products are currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.¹⁰

¹⁰ For a complete description of the scope of the CLPP Order, see the memorandum from Gary Taverman, Associate Deputy Assistant Secretary for Antidumping and Countervailing Duty Operations, to Paul Piquado, Assistant Secretary for Enforcement and Compliance, “Issue and Decision Memorandum for Final Results of Changed Circumstances Review: Certain Lined Paper Products from India” (Issues and Decision Memorandum), dated concurrently with these final results.

Analysis of Comments Received

All issues raised in the post-preliminary and rebuttal comments, or in case and rebuttal briefs by parties to this changed circumstances review are addressed in the Issues and Decision Memorandum, which is hereby adopted by this notice. A list of the issues which parties have raised, and to which we have responded in the Issues and Decision Memorandum, is attached to this notice as an Appendix.

The Issues and Decision Memorandum is a public document and is on file electronically via Enforcement and Compliance's Antidumping and Countervailing Duty Centralized Electronic Service System (“ACCESS”).¹¹ ACCESS is available to registered users at http://access.trade.gov and is available to all parties in the Central Records Unit, room 7046 of the main Department of Commerce building. In addition, a complete version of the Issues and Decision Memorandum can be accessed directly at http://enforcement.ita.doc.gov/frn/index.html. The signed and electronic version of the Issues and Decision Memorandum are identical in content.

¹¹ On November 24, 2014, Enforcement and Compliance changed the name of Enforcement and Compliance's AD and CVD Centralized Electronic Service System (“IA ACCESS”) to AD and CVD Centralized Electronic Service System (“ACCESS”). The Web site location was changed from http://iaaccess.trade.gov to http://access.trade.gov. The Final Rule changing the references to the Regulations can be found at 79 FR 69046 (November 20, 2014).

Final Results of Changed Circumstances Review

For the Preliminary Results, the Department found that Kokuyo was the successor-in-interest to Riddhi based on evidence on the record. For these final results, the Department continues to find that the business transfer from Riddhi to Kokuyo resulted in no significant changes to management, production facilities, supplier relationships, and customers with respect to the production and sale of the subject merchandise. Thus, we determine that Kokuyo operates as essentially the same business entity as Riddhi with respect to the subject merchandise.

Accordingly, the Department determines that Kokuyo is the successor-in-interest to Riddhi for the purpose of determining antidumping duty liability.

Instructions to U.S. Customs and Border Protection

As a result of this determination, we find that Kokuyo should receive the cash deposit rate previously assigned to Riddhi in the most recently completed review of the antidumping duty order on certain lined paper products from India. Consequently, the Department will instruct U.S. Customs and Border Protection to collect estimated antidumping duties for all shipments of subject merchandise exported by Kokuyo and entered, or withdrawn from warehouse, for consumption on or after the publication date of this notice in the Federal Register at the current cash deposit rate for Riddhi, which is de minimis.¹² This cash deposit requirement shall remain in effect until further notice.

¹² See Certain Lined Paper Products From India: Final Results of Antidumping Duty Administrative Review; 2010-2011, 78 FR 22232 (April 15, 2013).

Notification

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i) of the Tariff Act of 1930, as amended, and 19 CFR 351.216(e).

Dated: March 30, 2015.
Paul Piquado,
Assistant Secretary for Enforcement and Compliance.

Appendix

I. Summary

II. Background

III. Scope of the Order

IV. Discussion of Interested Party Comments

Comment 1: Time Periods Analyzed When Conducting a Successor-in-Interest CCR Analysis

Comment 2: Whether Kokuyo's Management Structure Is Similar to That of Riddhi

Comment 3: Whether Kokuyo's Production Facilities Are Similar to Those of Riddhi

Comment 4: Whether Kokuyo's Customer Base Is the Same as Riddhi's

Comment 5: Whether Kokuyo's Supplier Base Is the Same as Riddhi's

V. Recommendation

[FR Doc. 2015-07826 Filed 4-3-15; 8:45 am]

BILLING CODE 3510-DS-P